DEPARTMENT OF THE INTERIOR

Bureau of Land Management

[CA-360-1430-EU; CACA 28302]

Notice of Realty Action:

Classification of Public Land for Recreation and Public Purposes; Shasta County, California

AGENCY: Bureau of Land Management, Interior.

ACTION: Notice of realty action.

SUMMARY: The Bureau of Land Management (BLM) has examined and found suitable for classification for lease and or conveyance, under provisions of the Recreation and Public Purposes Act approximately 60.87 acres of public land in Shasta County, California. Shasta Service Guild, a non-profit organization, proposes to use the land for a park and community center.

DATES: Interested persons may submit written comments to the Field Manager at the address shown below until December 27, 2005. The land will not be offered for lease or conveyance until after January 9, 2006.

ADDRESSES: Bureau of Land Management, Redding Field Office, 355 Hemsted Drive, Redding, California 96002.

FOR FURTHER INFORMATION CONTACT: Ilene Emry, 530-224-2100 or by email to iemry@ca.blm.gov.

SUPPLEMENTARY INFORMATION: The following described public land in Shasta County, California has been examined and found suitable for classification for lease and/or conveyance under the Recreation and Public Purposes Act, as amended (43 U.S.C. 869 et seq.) and is hereby classified accordingly:

Mount Diablo Meridian, California

T. 32 N., R. 5 W.,

Sec. 30, lots 16 and 19, S½NE¼SE¼SW¼, and N½SE¼SE¼SW¼;

Sec. 31, lot 29.

The area described contains 60.87 acres in Shasta County.

The Shasta Service Guild's goal is to preserve and interpret the history of Shasta County and especially the Shasta area. The 60.87 acres of public land has many historical features which will be incorporated into their plan of development along with many structures which include an old freight depot, blacksmith barn, church, school, and other such structures that may become available. The project will also include an area for their annual Art Fair and Fiddle Jamboree held in May each year. Part of their plan includes a full-service Community Center and offices which will also include bays for emergency vehicles such as an ambulance or fire truck, along with a fire training site to help in the training of area fire personnel.

The Shasta Service Guild is a non-profit organization that provides family support services, social services, and local community project assistance in Shasta County. A portion of the above described lands (encompassing approximately 3 acres within lot 19) were previously classified as suitable for lease, for landfill purposes, to the County of Shasta. These lands are no longer needed for this purpose and are hereby classified for lease and or conveyance to the Shasta Service Guild as part of the above legal description. The subject lands were also segregated as of March 16, 2005 (CA 46843 F2), under provisions of the exchange regulations found at 43 CFR 2201.1-1. The March 16, 2005 segregation is hereby terminated for the lands described in this Notice. The lease and or conveyance, when issued, will be subject to the provisions of the Recreation and Public Purposes Act, and to all applicable regulations of the Secretary of the Interior, and would contain the following reservations to the United States:

1. A right-of-way thereon for ditches and canals constructed by the authority of the United States, Act of August 30, 1890 (43 U.S.C. 945).

2. All minerals shall be reserved to the United States, together with the right to prospect for, mine, and remove such deposits from the same under applicable law and such regulations as the Secretary of the Interior may prescribe. Initially, the lands would be leased and after substantial development of the parcel, may be purchased by the Shasta Service Guild at 50 percent of the appraised fair market value, as provided for by 43 CFR 2741.8(b) and established BLM procedures. The lands are not needed for Federal purposes. Lease or conveyance is consistent with current BLM land use planning and would be in the public interest (1993 Redding Resource Management Plan).

Classification Comments: Interested parties may submit comments involving the suitability of the land for a park and community center as described below. Comments on the classification are restricted to whether the land is physically suited for the proposal, whether the use is consistent with local planning and zoning, or if the use is consistent with State and Federal programs.

Application Comments: Interested parties may submit comments regarding the specific use proposed in the application and plan of development, whether the BLM followed proper administrative procedures in reaching the decision, or any other factor not directly related to the suitability of the land for Recreation and Public Purposes. All submissions from organizations or businesses will be made available for public inspection in their entirety. Individuals may request confidentiality with respect to their name, address, and phone number. If you wish to have your name or street address withheld from public review, or from disclosure under the Freedom of Information Act, the first line of the comment should start with the words “CONFIDENTIALITY REQUEST” in uppercase letters in order for BLM to comply with your request. Such request will be honored to the extent allowed by law. Comment contents will not be kept confidential. Any objections will be evaluated by the State Director, who may sustain, vacate, or modify this realty action.

On November 9, 2005, the subject lands will be segregated from all other appropriation under the public land laws, including the general mining laws, except for lease/conveyance under the Recreation and Public Purposes Act. The segregative effect shall terminate upon issuance of a patent or as specified in an opening order to be published in the Federal Register, which ever occurs first. In the absence of timely objections, the classification of the lands described in this Notice will become effective January 9, 2006.

The lands will not be offered for lease/conveyance until after the classification becomes effective.

(Authority: 43 CFR 2741.5)

Dated: September 2, 2005.
Steven W. Anderson,
Field Manager.

[FR Doc. 05-22341 Filed 11-8-05; 8:45 am]

BILLING CODE 4310-40-P